SURFACE TRANSPORTATION BOARD

[Docket No. FD 36806]

Old Line Holding Company, Inc., d/b/a Old Line Railroad—Acquisition and Operation Exemption—Line of The Maryland and Delaware Railroad Company

Old Line Holding Company, Inc., d/b/a Old Line Railroad (Old Line), a noncarrier, has filed a verified notice of exemption under 49 CFR 1150.31 to acquire from The Maryland and Delaware Railroad Company (MDDE) and operate approximately 23.7 miles of rail line from milepost 42.0 in Selbyville, Del., to the end of the track at milepost 65.7 in Snow Hill, Md. (the Line). The verified notice states that Old Line is the parent company of MDDE, which currently operates the Line.

According to the verified notice, Old Line, MDDE, and Carload Express, Inc. (Carload), have entered into a purchase agreement dated August 1, 2024, which provides that Old Line will acquire the Line from MDDE and that Carload will concurrently acquire MDDE from Old Line.¹ Old Line states that, after consummating the proposed transaction, it will become a Class III rail carrier and operate the Line.

¹ In a concurrently filed petition for exemption, Carload, a noncarrier, seeks Board approval to acquire MDDE from Old Line. Pet. for Exemption 1, Carload Express, Inc.—Control Exemption—Md. & Del. R.R., FD 36807.

According to the verified notice, the purchase agreement further provides that Delmarva Central Railroad Company, a Class III rail carrier and subsidiary of Carload, will acquire from MDDE a 3-mile rail line that connects with the Line at Selbyville. See Delmarva Cent. R.R.—Acquis. Exemption—Line of the Md. & Del. R.R., FD 36805 (STB served Oct. 4, 2024).

Old Line certifies that the transaction does not involve any provision or agreement that would limit future interchange with a third-party connecting carrier. Old Line further certifies that its projected annual revenue will not exceed $5 million and will not result in the creation of a Class II or Class I rail carrier.

The earliest this transaction may be consummated is November 29, 2024, the effective date of the exemption. If the verified notice contains false or misleading information, the exemption is void ab initio. Petitions to revoke the exemption under 49 U.S.C. 10502(d) may be filed at any time. The filing of a petition to revoke will not automatically stay the effectiveness of the exemption. Petitions for stay must be filed no later than November 22, 2024 (at least seven days before the exemption becomes effective).

All pleadings, referring to Docket No. FD 36806, must be filed with the Surface Transportation Board either via e-filing on the Board's website or in writing addressed to 395 E Street SW, Washington, DC 20423-0001. In addition, a copy of each pleading must be served on Old Line's representative, Thomas J. Litwiler, Fletcher & Sippel LLC, 29 North Wacker Drive, Suite 800, Chicago, IL 60606-3208.

According to Old Line, this action is categorically excluded from environmental review under 49 CFR 1105.6(c) and from historic preservation reporting requirements under 49 CFR 1105.8(b).

Board decisions and notices are available at www.stb.gov.

Decided: November 8, 2024.
By the Board, Scott M. Zimmerman, Acting Director, Office of Proceedings.
Brendetta Jones,
Clearance Clerk.

[FR Doc. 2024-26584 Filed 11-14-24; 8:45 am]

BILLING CODE 4915-01-P